DEPARTMENT OF THE INTERIOR

Fish and Wildlife Service

Information Collection Sent to the Office of Management and Budget (OMB) for Approval Under the Paperwork Reduction Act; OMB Control Number 1018-0128; Marine Turtle Conservation Fund Grant Program

AGENCY: Fish and Wildlife Service, Interior.

ACTION: Notice; request for comments.

SUMMARY: We (Fish and Wildlife Service) have submitted the collection of information described below to OMB for approval under the provisions of the Paperwork Reduction Act. The information collected for the Marine Turtle Conservation Fund Grant Program is needed to review project proposals in accordance with the Marine Turtle Conservation Act (Pub. L. 108-266).

DATES: You must submit comments on or before March 3, 2006.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection submission, explanatory information, and/or related forms, contact Hope Grey, Information Collection Clearance Officer, at 703-358-2482 or electronically at hope_grey@fws.gov.

SUPPLEMENTARY INFORMATION: The Office of Management and Budget (OMB) regulations at 5 CFR part 1320, which implement provisions of the Paperwork Reduction Act of 1995 (44 U.S.C. 3501 et seq.) require that interested members of the public and affected agencies have an opportunity to comment on information collection and recordkeeping activities (see 5 CFR 1320.8(d)). The OMB control number for the collection of information for the Marine Turtles Conservation Fund Grants Program is 1018-0128, which expires on January 31, 2006. We have sent a request to OMB to renew its approval of this collection of information. OMB has up to 60 days to approve or disapprove our request for renewal, but may respond in as early as 30 days. To ensure consideration, send your comments to OMB by the date listed in the DATES section. Federal agencies may not conduct or sponsor and a person is not required to respond to a collection of information unless it displays a currently valid OMB control number.

On August 16, 2005, we published in the Federal Register (70 FR 16148) a notice of our intent to request information collection authority from OMB. In that notice, we solicited comments for 60 days, ending on October 17, 2005. We received comments from one individual. The commenter did not address the necessity, clarity, or accuracy of the information collection, but instead provided general commentary on how the funds provided to this Federal program could be better used if given to a nonprofit organization. We have not made any changes to our information collection as a result of the comment.

Proposals submitted for funding under the Marine Turtle Conservation Act are subject to a panel review, comprised of in-house and select outside technical experts. The information collected under this program's Notice of Funding Availability includes: a project summary and narrative; letter of appropriate government endorsement; brief curricula vitae for key project personnel; and complete standard forms 424, 424a and 424b. Proposals from U.S. applicants also include a copy of the organization's Negotiated Indirect Cost Rate Agreement (NICRA) (if applicable). The project summary and narrative is the basis for this information collection request for approval, and allows the review panel to assess how well the project addresses the priorities identified by the Act. As all of the projects under this Act will be conducted outside the United States, the letter of appropriate government endorsement ensures that the proposed activities will not meet with local resistance or work in opposition to locally identified priorities and needs. Brief curricula vitae for key project personnel allow the review panel to assess the qualifications of project staff to effectively carry out the project goals and objectives. Although the standard forms are only required for U.S. financial assistance applicants, we ask all applicants to submit these forms in order to allow for more uniformity across all proposals. As all Federal entities are required to honor the indirect cost rates an organization has negotiated with their cognizant agency, we require all organizations with a NICRA to submit the agreement paperwork with their proposals to verify how their rate is applied in their proposed budget.

We believe the information requested in this collection, outside of the required standard forms, is the minimum information necessary to allow the review panel sufficient technical, financial, and administrative information to determine the merits of each proposal, and to select the best projects for funding.

Title: Marine Turtle Conservation Fund Grant Program.

OMB Control Number: 1018-0128.

Service Form Numbers: None.

Frequency of Collection: Annually.

Description of Respondents: Foreign governments; domestic and foreign nongovernmental organizations, and individuals.

Total Annual Responses: 95 responses (55 proposals, 40 reports).

Total Annual Burden Hours: 1260 hours (12 hours/proposal and 15 hours/report).

Several recent applicants provided comments on (1) the clarity of the submission instructions, (2) the estimated length of time to complete a submission, and (3) ways to improve the documents. Most of the comments related to difficulties encountered filling in the standard Federal forms where English was not the applicant's first language. To provide better service to this worldwide program, we are developing additional instructions for filling in the standard forms in a variety of languages including Spanish, French and Portuguese. We will publish these instructions on our Web site in the future.

We again invite comments concerning this collection on: (1) Whether or not the collection of information is necessary for the proper performance of the functions of the agency, including whether or not the information will have practical utility; (2) the accuracy of the agency's estimate of burden on the public; (3) ways to enhance the quality, utility and clarity of the information to be collected; and (4) ways to minimize the burden of the collection of information on those who are to respond.

Dated: January 26, 2006.
Hope Grey,
Information Collection Clearance Officer, Fish and Wildlife Service.

[FR Doc. E6-1315 Filed 1-31-06; 8:45 am]

BILLING CODE 4310-55-P